DEPARTMENT OF DEFENSE

Office of the Secretary

[Docket ID DoD-2022-OS-0074]

Proposed Collection; Comment Request

AGENCY: National Guard Bureau (NGB), Department of Defense (DoD).

ACTION: 60-Day information collection notice.

SUMMARY: In compliance with the Paperwork Reduction Act of 1995, the National Guard Bureau announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 22, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to National Guard Bureau, ARNG-HRR-O, 111 South George Mason Dr., Arlington, VA 22204, ATTN: SFC Smiley, Javoris, or call 501-212-4954.

SUPPLEMENTARY INFORMATION:

Title; Associated Form; and OMB Number: Education Verification for National Guard Enlistees; NGB Form 900, NGB Form 901; OMB Control Number 0704-0584.

Needs and Uses: The information collection is necessary to verify education status and projected graduation dates for students who agree to enlist in the Army National Guard. Information gathered by the NGB Form 900 is required to verify and determine the graduation dates for high school juniors who enlist in the National Guard. Information gathered by the NGB Form 901 is required to verify the enrollment and graduation dates for college students who enlist in the National Guard. The National Guard will use this information to schedule basic training dates to accommodate a student's educational obligations, thereby ensuring that the enlistee will complete his or her education in a timely manner.

Affected Public: Individuals or households.

Annual Burden Hours: 833.33.

Number of Respondents: 10,000.

Responses per Respondent: 1.

Annual Responses: 10,000.

Average Burden per Response: 5 minutes.

Frequency: On occasion.

Dated: June 15, 2022.
Aaron T. Siegel,
Alternate OSD Federal Register Liaison Officer, Department of Defense.

[FR Doc. 2022-13265 Filed 6-21-22; 8:45 am]

BILLING CODE 5001-06-P